DEPARTMENT OF TRANSPORTATION

Federal Aviation Administration

14 CFR Part 71

[Docket No. FAA-2006-25502; Airspace Docket No. 06-ACE-10]

Modification of Class E Airspace; West Plains, MO

AGENCY: Federal Aviation Administration (FAA), DOT.

ACTION: Direct final rule; confirmation of effective date.

SUMMARY: This document confirms the effective date of the direct final rule which revises Class E Airspace at West Plains, MO.

DATES: Effective Date: 0901 UTC, November 23, 2006.

FOR FURTHER INFORMATION CONTACT: Grant Nichols, System Support, DOT Regional Headquarters Building, Federal Aviation Administration, 901 Locust, Kansas City, MO 64106; telephone: (816) 329-2522.

SUPPLEMENTARY INFORMATION: The FAA published this direct final rule with a request for comments in the Federal Register on August 11, 2006 (71 FR 46076). The FAA uses the direct final rulemaking procedure for a non-controversial rule where the FAA believes that there will be no adverse public comment. This direct final rule advised the public that no adverse comments were anticipated, and that unless a written adverse comments, or a written notice of intent to submit such an adverse comment, were received within the comment period, the regulation would become effective on November 23, 2006. No adverse comments were received, and thus this notice conforms that this direct final rule will become effective on that date.

Issued in Fort Worth, Texas, on September 22, 2006.
Walter Tweedy,
Acting Manager, System Support Group, ATO Central Service Area.

[FR Doc. 06-8494 Filed 10-4-06; 8:45 am]

BILLING CODE 4910-13-M